INTERNATIONAL TRADE COMMISSION

[Investigation Nos. 731-TA-707-709 (Second Review)]

Certain Seamless Carbon and Alloy Steel Standard, Line, and Pressure Pipe From Argentina, Brazil, and Germany

Determination

On the basis of the record ¹ developed in the subject five-year reviews, the United States International Trade Commission (Commission) determines, pursuant to section 751(c) of the Tariff Act of 1930 (19 U.S.C. 1675(c)) (the Act), that revocation of the antidumping duty orders on certain seamless carbon and alloy steel standard, line, and pressure pipe from Argentina and Brazil would not be likely to lead to continuation or recurrence of material injury to an industry in the United States within a reasonably foreseeable time.² The Commission also determines that revocation of the antidumping duty order on certain seamless carbon and alloy steel standard, line, and pressure pipe from Germany would be likely to lead to continuation or recurrence of material injury to an industry in the United States within a reasonably foreseeable time.³

¹ The record is defined in sec. 207.2(f) of the Commission's Rules of Practice and Procedure (19 CFR 207.2(f)).

² Commissioner Charlotte R. Lane dissenting, Commissioner Dean A. Pinkert not participating.

³ Chairman Daniel R. Pearson and Commissioner Deanna Tanner Okun dissenting, Commissioner Dean A. Pinkert not participating.

Background

The Commission instituted these reviews on June 1, 2006 (71 FR 31209) and determined on September 5, 2006 that it would conduct full reviews (71 FR 54520, September 15, 2006). Notice of the scheduling of the Commission's reviews and of a public hearing to be held in connection therewith was given by posting copies of the notice in the Office of the Secretary, U.S. International Trade Commission, Washington, DC, and by publishing the notice in the Federal Register on September 29, 2006 (71 FR 57567). The hearing was held in Washington, DC, on February 8, 2007, and all persons who requested the opportunity were permitted to appear in person or by counsel.

The Commission transmitted its determination in these reviews to the Secretary of Commerce on May 2, 2007. The views of the Commission are contained in USITC Publication 3918 (May 2007), entitled Certain Seamless Carbon and Alloy Steel Standard, Line, and Pressure Pipe from Argentina, Brazil, and Germany.

Issued: May 3, 2007.
By order of the Commission.
Marilyn R. Abbott,
Secretary to the Commission.

[FR Doc. E7-8786 Filed 5-7-07; 8:45 am]

BILLING CODE 7020-02-P